FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 1, 2016.

A. Federal Reserve Bank of Dallas (Robert L. Triplett III, Senior Vice President) 2200 North Pearl Street, Dallas, Texas 75201-2272:

1. Kemp Family 2016 Trust, Gillespie County, Texas, Brian Daniel Kemp, San Marcos, Texas, Cynthia Susan Kemp, Fredericksburg, Texas, and Daniel Wesley Kemp, Fredericksburg, Texas, as trustees of the Kemp Family 2016 Trust; the Keller Family 2016 Trust, Gillespie, Texas, Stephanie Ann Igler, San Angelo, Texas, Kory Allen Keller, Fredericksburg, Texas, and Stacy Lynn Loth, Harper, Texas, as trustees of the Keller Family 2016 Trust; the Kathleen Keller 2016 Trust, Blanco County, Texas, Jody Lynn Lapp, Cottonsville, Maryland, as trustee of the Kathleen Keller 2016 Trust; and the Kay Durst Family 2016 Trust, Gillespie County, Texas, Kimberly Durst Bonnen, Friendswood, Texas, and Kristy Kay LeJeune, College Station, Texas, as trustees of the Kay Durst Family 2016 Trust; to join the Bonnen/Durst/Hayne/Igler/Keller/Kemp/LeJeune/Loth control group, to retain voting shares of Security Holding Company (the “Company”), and indirectly Security State Bank & Trust (the “Bank”), both of Fredericksburg, Texas. In addition, Brian Daniel Kemp, San Marcos, Texas, Cynthia Susan Kemp, Fredericksburg, Texas, and Daniel Wesley Kemp, Fredericksburg, Texas, have applied to acquire shares of the Company and indirectly the Bank.

Board of Governors of the Federal Reserve System, November 10, 2016.

Yao-Chin Chao,
Assistant Secretary of the Board.

[FR Doc. 2016-27559 Filed 11-16-16; 8:45 am]

BILLING CODE 6210-01-P